DEPARTMENT OF COMMERCE

International Trade Administration

[A-570-909]

Certain Steel Nails From the People's Republic of China: Preliminary Results of the Fourth Antidumping Duty Administrative Review

AGENCY: Import Administration, International Trade Administration, Department of Commerce.

SUMMARY: The Department of Commerce (“Department”) is conducting the fourth administrative review of the antidumping duty order on certain steel nails (“nails”) from the People's Republic of China (“PRC”).¹ The Department has preliminarily determined that sales have been made below normal value (“NV”) by the respondents examined during the period of review (“POR”), August 1, 2011, through July 31, 2012. If these preliminary results are adopted in the final results, the Department will instruct U.S. Customs and Border Protection (“CBP”) to assess antidumping duties on all appropriate entries of subject merchandise during the POR. Interested parties are invited to comment on these preliminary results.

¹ See Notice of Antidumping Duty Order: Certain Steel Nails From the People's Republic of China, 73 FR 44961 (August 1, 2008).

DATES: Effective Date: September 16, 2013.

FOR FURTHER INFORMATION CONTACT: Javier Barrientos or Matthew Renkey, AD/CVD Operations, Office 9, Import Administration, International Trade Administration, U.S. Department of Commerce, 14th Street and Constitution Avenue NW., Washington, DC 20230; telephone 202-482-2243 or 202-482-2312, respectively.

SUPPLEMENTARY INFORMATION:

Scope of the Order

The merchandise covered by the order includes certain steel nails having a shaft length up to 12 inches. Certain steel nails subject to the order are currently classified under the Harmonized Tariff Schedule of the United States (“HTSUS”) subheadings 7317.00.55, 7317.00.65 and 7317.00.75. While the HTSUS subheadings are provided for convenience and customs purposes, the written description of the scope of the order is dispositive.

For a full description of the scope, see “Certain Steel Nails From the People's Republic of China: Decision Memorandum for the Preliminary Results of the 2011-2012 Antidumping Duty Administrative Review,” dated concurrently with this notice (“Preliminary Decision Memorandum”).

Methodology

The Department has conducted these reviews in accordance with section 751(a)(1)(B) of the Tariff Act of 1930, as amended (“Act”). Constructed export prices and export prices have been calculated in accordance with section 772 of the Act. Because the PRC is a nonmarket economy (“NME”) within the meaning of section 771(18) of the Act, NV has been calculated in accordance with section 773(c) of the Act. For a full description of the methodology underlying our conclusions, see the Preliminary Decision Memorandum, which is dated concurrently with these results and hereby adopted by this notice. The Preliminary Decision Memorandum is a public document and is on file electronically via Import Administration's Antidumping and Countervailing Duty Centralized Electronic Service System (“IA ACCESS”). IA ACCESS is available to registered users at http://iaaccess.trade.gov, and is available to all parties in the Central Records Unit, room 7046 of the main Department of Commerce building. In addition, a complete version of the Preliminary Decision Memorandum can be accessed directly on the internet at http://www.trade.gov/ia/. The signed Preliminary Decision Memorandum and the electronic versions of the Preliminary Decision Memorandum are identical in content.

Preliminary Results of Review

The Department preliminarily determines that the following weighted-average dumping margins exist for the period August 1, 2011, through July 31, 2012:

Exporter | Weighted-average margin (percent)
(1) Stanley ² | 22.90
(2) JISCO ³ | 43.45
(3) Cana (Tianjin) Hardware Industrial Co., Ltd | 26.41
(4) Chiieh Yung Metal Ind. Corp. | 26.41
(5) China Staple Enterprise (Tianjin) Co., Ltd | 26.41
(6) Dezhou Hualude Hardware Products Co., Ltd | 26.41
(7) Hebei Cangzhou New Century Foreign Trade Co., Ltd | 26.41
(8) Huanghua Jinhai Hardware Products Co., Ltd | 26.41
(9) Huanghua Xionghua Hardware Products Co., Ltd | 26.41
(10) Nanjing Yuechang Hardware Co., Ltd | 26.41
(11) Qingdao D&L Group Ltd | 26.41
(12) SDC International Australia Pty., Ltd | 26.41
(13) Shandong Dinglong Import & Export Co., Ltd | 26.41
(14) Shandong Oriental Cherry Hardware Group Co., Ltd | 26.41
(15) Shandong Oriental Cherry Hardware Import and Export Co., Ltd | 26.41
(16) Shanghai Curvet Hardware Products Co., Ltd | 26.41
(17) Shanghai Yueda Nails Industry Co., Ltd | 26.41
(18) Shanxi Hairui Trade Co., Ltd | 26.41
(19) Shanxi Pioneer Hardware Industrial Co., Ltd | 26.41
(20) Shanxi Tianli Industries Co., Ltd | 26.41
(21) S-Mart (Tianjin) Technology Development Co., Ltd | 26.41
v22) Suntec Industries Co., Ltd | 26.41
(23) Suzhou Xingya Nail Co., Ltd | 26.41
(24) Tianjin Jinchi Metal Products Co., Ltd | 26.41
(25) Tianjin Jinghai County Hongli Industry & Business Co., Ltd | 26.41
(26) Tianjin Lianda Group Co., Ltd | 26.41
(27) Tianjin Universal Machinery Imp & Exp Corporation | 26.41
(28) Tianjin Zhonglian Metals Ware Co., Ltd | 26.41
(29) Xi'an Metals & Minerals Import and Export Co., Ltd | 26.41
(30) Zhejiang Gem-Chun Hardware Accessory Co., Ltd | 26.41
PRC-Wide Rate | 118.04

² The Stanley Works (Langfang) Fastening Systems Co., Ltd. (“Stanley Langfang”), and Stanley Black & Decker, Inc. (“SBD”) (collectively, “Stanley”).

³ Qingdao JISCO Co., Ltd. and ECO System Corporation (d/b/a JISCO Corporation) (collectively, “JISCO”).

Disclosure, Public Comment and Opportunity To Request a Hearing

The Department intends to disclose the calculations used in our analysis to parties in these reviews within five days of the date of publication of this notice in accordance with 19 CFR 351.224(b).

Interested parties are invited to comment on the preliminary results of this review. However, we plan to issue post-preliminary supplemental questionnaires and, therefore, will be extending the case brief deadline. The Department will inform interested parties of the updated briefing schedule when it has been confirmed.⁴ Rebuttals to case briefs, which must be limited to issues raised in the case briefs, must be filed within five days after the time limit for filing case briefs.⁵ Parties who submit arguments are requested to submit with the argument (a) a statement of the issue, (b) a brief summary of the argument, and (c) a table of authorities.⁶ Parties submitting briefs should do so pursuant to the Department's electronic filing system, IA ACCESS.

⁴ See 19 CFR 351.309(c)(1)(ii).

⁵ See 19 CFR 351.309(d)(1)-(2).

⁶ See 19 CFR 351.309(c)(2), (d)(2).

Any interested party may request a hearing within 30 days of publication of this notice.⁷ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 14th Street and Constitution Avenue NW., Washington, DC 20230.⁸

⁷ See 19 CFR 351.310(c).

⁸ See 19 CFR 351.310(d).

The Department intends to issue the final results of this administrative review, which will include the results of our analysis of all issues raised in the case briefs, within 120 days of publication of these preliminary results in the Federal Register, pursuant to section 751(a)(3)(A) of the Act.

Deadline for Submission of Publicly Available Surrogate Value Information

In accordance with 19 CFR 351.301(c)(3)(ii), the deadline for submission of publicly available information to value the factors of production under 19 CFR 351.408(c) is 20 days after the date of publication of the preliminary results. In accordance with 19 CFR 351.301(c)(1), if an interested party submits factual information less than 10 days before or on the applicable deadline for submission of such factual information, an interested party may submit factual information to rebut, clarify, or correct the factual information no later than ten days after such factual information is served on the interested party. However, the Department generally will not accept in the rebuttal submission additional or alternative surrogate value (“SV”) information not previously on the record, if the deadline for submission of SV information has passed.⁹ Furthermore, the Department generally will not accept business proprietary information in either the SV submissions or the rebuttals thereto, as the regulation regarding the submission of SVs allows only for the submission of publicly available information.¹⁰ Finally, for each piece of factual information submitted with SV rebuttal comments, the interested party must provide a written explanation of what information that is already on the record of the ongoing proceeding that the factual information is rebutting, clarifying, or correcting.

⁹ See Glycine from the People's Republic of China: Final Results of Antidumping Duty Administrative Review and Final Rescission, in Part, 72 FR 58809 (October 17, 2007), and accompanying Issues and Decision Memorandum at Comment 2.

¹⁰ See 19 CFR 351.301(c)(3).

Assessment Rates

Upon issuance of the final results, the Department will determine, and CBP shall assess, antidumping duties on all appropriate entries covered by this review.¹¹ The Department intends to issue assessment instructions to CBP 15 days after the publication date of the final results of this review.

¹¹ See 19 CFR 351.212(b) .

For assessment purposes, the Department applied the assessment rate calculation method adopted in Antidumping Proceedings: Calculation of the Weighted-Average Dumping Margin and Assessment Rate in Certain Antidumping Proceedings: Final Modification, 77 FR 8101 (February 14, 2012). For any individually examined respondent whose weighted average dumping margin is above de minimis (i.e., 0.50 percent) in the final results of this review, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.¹² Where either a respondent's weighted average dumping margin is zero or de minimis, or an importer- (or customer-) specific ad valorem is zero or de minimis, the Department will instruct CBP to liquidate appropriate entries without regard to antidumping duties.¹³ For the respondents that were not selected for individual examination in this administrative review and that qualified for a separate rate, the assessment rate will be based on the average of the mandatory respondents.¹⁴ We intend to instruct CBP to liquidate entries containing subject merchandise exported by the PRC-wide entity at the PRC-wide rate.

¹² See 19 CFR 351.212(b)(1).

¹³ See 19 CFR 351.106(c)(2).

¹⁴ See Preliminary Decision Memorandum.

The Department recently announced a refinement to its assessment practice in NME cases. Pursuant to this refinement in practice, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.¹⁵

¹⁵ For a full discussion of this practice, see Non-Market Economy Antidumping Proceedings: Assessment of Antidumping Duties, 76 FR 65694 (October 24, 2011).

Cash Deposit Requirements

The following cash deposit requirements will be effective upon publication of the final results of these reviews for shipments of the subject merchandise from the PRC entered, or withdrawn from warehouse, for consumption on or after the publication date, as provided by sections 751(a)(2)(C) of the Act: (1) For the companies listed above that have a separate rate, the cash deposit rate will be that established in the final results of these reviews (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

This preliminary determination is issued and published in accordance with sections 751(a)(1) and 777(i)(1) of the Act.

Dated: September 3, 2013.
Paul Piquado,
Assistant Secretary for Import Administration.

Appendix

List of Topics Discussed in the Preliminary Decision Memorandum

1. Case History

2. Scope of the Order

3. Preliminary Determination of No Shipments

4. Non-Market Economy Country Status

5. Separate Rates

6. Separate Rate Calculation for Companies Not Individually Examined

7. PRC-Wide Entity

8. Facts Available

9. Surrogate Country and Surrogate Value Data

10. Date of Sale

11. Determination of Comparison Method

12. Results of the Differential Pricing Analysis

13. Comparisons to Normal Value

14. U.S. Price

15. Normal Value

16. Factor Valuations

17. Currency Conversion

[FR Doc. 2013-22475 Filed 9-13-13; 8:45 am]

BILLING CODE 3510-DS-P